DEPARTMENT OF TRANSPORTATION

Federal Aviation Administration

Notice of Waivers To Buy American Under the American Reinvestment and Recovery Act for Grants-in-Aid for Airports

AGENCY: Federal Aviation Administration (FAA), U.S. DOT.

ACTION: Notice of waiver to Buy American preferences for grants-in-aid grant projects.

SUMMARY: The American Recovery and Reinvestment Act of 2009 (ARRA) requires publication of the waivers that have been issued under ARRA. This notice provides information on the waivers that have been issued for Federal Aviation Administration grants-in-aid projects.

DATES: Effective Date: November 18, 2009.

FOR FURTHER INFORMATION CONTACT: Mr. Frank SanMartin, Manager, Airports Financial Assistance, APP 500, Room 620, FAA, 800 Independence Avenue, SW., Washington, DC 20591, Telephone (202) 267-3831.

SUPPLEMENTARY INFORMATION: Section 1605 of the American Reinvestment and Recovery Act requires that agencies meet Buy American requirements for the use of American iron, steel, and manufactured goods. It further requires that agencies publish a Federal Register notice giving a detailed written justification explaining any waivers that are given to the Buy American requirements of the Act.

Title XII of the Act provides $1,100,000,000 to make grants for airports. The Act requires that the grants issued by the Federal Aviation Administration follow the guidelines and requirements of subchapter 1 of chapter 471 and subchapter 1 of chapter 475 of title 49, United States Code (U.S.C.). These subchapters require following 49 U.S.C. 50101, the Buy American Preferences section that is used for airport grants-in-aid projects.

Under 49 U.S.C. 50101(b)(3), the Secretary may waive the Buy American preference requirement if the Secretary finds that facility or equipment is composed of more than 60 percent components and subcomponents that are produced in the United States (U.S.) and that final assembly of the facility or equipment has occurred in the U.S. To meet Buy American requirements, airports using grant funding must seek a waiver from FAA to use any product that is not made up of 100 percent U.S. components or subcomponents. However it is well known that many of the U.S. products used on airport grant projects contain some small percentage of non-U.S. goods. In order to help airports comply with Buy American, FAA has reviewed many of the most-commonly used airport products and determined whether the products are eligible to receive a waiver under 49 U.S.C. 50101(b)(3). Products that do meet the waiver criteria are granted a “Nationwide Waiver.” This “Nationwide Waiver” allows the product to be used on airport projects without having to receive separate project waivers. Having a nationwide waiver allows construction to start quickly without having to wait for the Buy American analysis to be completed for every project, while still assuring the funds used for airport projects under the Act are being directed to U.S. manufacturers.

Because of the “Nationwide Waiver,” only a handful of the over 300 airport projects under the Act have needed a waiver to Buy American. In nearly every case, the waivers were granted for products that were later granted nationwide waivers. Waivers were required simply because the Nationwide Buy American compliance review had not been completed. The remaining waivers are for items for which a nationwide waiver has not been issued.

The items that have been granted a “Nationwide Waiver” can be found on the FAA Web site at: http://www.faa.gov/airports/aip/procurement/federal_contract_provisions/ at the tab entitled, Equipment Meeting Buy American Requirements.

Project waivers issued under ARRA, including those for which nationwide waivers have since been issued are as follows:

Airport | Product | Final assembly location
Tuscaloosa Regional Airport, Tuscaloosa, Alabama | Palladin Light Construction Group Lighted Closure “X” | Dexter, Michigan.
St. Petersburg-Clearwater International Airport, Clearwater, Florida | Various Products in Terminal Building Construction | Clearwater, Florida.
Mid-Continent Airport, Wichita, Kansas | Oshkosh Corporation Airport Rescue and Firefighting Vehicle | Oshkosh, Wisconsin.
White Sulphur Springs Airport, White Sulphur Springs, Montana; Billings Logan International Airport, Billings, Montana | Sherwin Williams Pavement Marking Glass Beads | Victorville, California and Canby, Oregon.
Helena Regional Airport, Helena, Montana; Bowman Field Airport, Anaconda, Montana | Liberty Airport Systems Regulator | Lancaster, New York.
Helena Regional Airport, Helena, Montana; Bowman Field Airport, Anaconda, Montana | Airport Lighting Company Edge Light | Manilus, New York.
Helena Regional Airport, Helena, Montana; Bowman Field Airport, Anaconda, Montana | Ridgeline Pipe Manufacturing PVC Conduit | Eugene, Oregon.
Mitchell Municipal Airport, Mitchell, South Dakota | Crouse Hinds Lighting Equipment | Mitchell Municipal Airport, Mitchell, SD.
Muskegon County Airport, Muskegon, Michigan | Rosenbauer Airport Rescue and Firefighting Vehicle | Wyoming, Minnesota.
Dayton International Airport, Dayton, Ohio | Olson Industries Light Base | Atkinson, Nebraska.
Bowman Field Airport, Anaconda, Montana | Airfield Signs | AGM, Inc, Manlius, New York.

Authority: Public Law 111-5, Section 1605.

Issued in Washington, DC, November 18, 2009.
Frank San Martin,
Manager, Airports Financial Assistance Branch.

[FR Doc. E9-28442 Filed 11-25-09; 8:45 am]

BILLING CODE P